DEPARTMENT OF LABOR

Employment and Training Administration

[TA-W-57,145]

Columbia Lighting, Hubbell Lighting, Inc. Division, Spokane, WA; Notice of Revised Determination on Reconsideration

By letter of July 14, 2005, an International Brotherhood Electrical Workers, Local Union No. 73 requested administrative reconsideration regarding the Department of Labor's Notice of Negative Determination Regarding Eligibility to Apply for Worker Adjustment Assistance, applicable to the workers of the subject firm.

The initial investigation resulted in a negative determination signed on June 20, 2005 was based on the finding that there were no company imports of fluorescent lighting fixtures and no shift of production to a foreign source during the relevant period. The denial notice was published in the Federal Register on July 20, 2005 (70 FR 41792).

To support the request for reconsideration, the petitioner supplied additional information regarding the subject firm's foreign facilities which manufacture like or directly competitive products with those produced at the subject firm. Upon further contact with the subject firm's company official, it was revealed that the subject firm significantly increased its import purchases of fluorescent lighting fixtures from January through April of 2005 when compared with the same period in 2004.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I conclude that increased imports of articles like or directly competitive with those produced at Columbia Lighting, Hubbell Lighting, Inc. Division, Spokane, Washington, contributed importantly to the declines in sales or production and to the total or partial separation of workers at the subject firm. In accordance with the provisions of the Act, I make the following certification:

All workers of Columbia Lighting, Hubbell Lighting, Inc. Division, Spokane, Washington who became totally or partially separated from employment on or after May 9, 2004 through two years from the date of this certification, are eligible to apply for adjustment assistance under Section 223 of the Trade Act of 1974, and are eligible to apply for alternative trade adjustment assistance under Section 246 of the Trade Act of 1974.

Signed in Washington, DC, this 19th day of August, 2005.
Elliott S. Kushner,
Certifying Officer, Division of Trade Adjustment Assistance.

[FR Doc. E5-4775 Filed 8-31-05; 8:45 am]

BILLING CODE 4510-30-P